DEPARTMENT OF COMMERCE

National Oceanic and Atmospheric Administration

[RTID 0648-XC294]

Endangered and Threatened Species; Take of Anadromous Fish

AGENCY: National Marine Fisheries Service (NMFS), National Oceanic and Atmospheric Administration (NOAA), Commerce.

ACTION: Notice of receipt of applications; for 14 permit renewals and 3 new permits.

SUMMARY: Notice is hereby given that NMFS has received 17 scientific research permit application requests relating to Pacific salmon, steelhead, green sturgeon, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address (see ADDRESSES) no later than 5 p.m. Pacific Standard Time on September 28, 2022.

ADDRESSES: All written comments on the applications should be sent by email to nmfs.wcr-apps@noaa.gov (please include the permit number in the subject line of the email).

FOR FURTHER INFORMATION CONTACT: Diana Dishman, Portland, OR (ph.: 503-736-4466), email: Diana.Dishman@noaa.gov). Permit application instructions are available from the address above, or online at https://apps.nmfs.noaa.gov.

SUPPLEMENTARY INFORMATION:

Species Covered in This Notice

The following listed species are covered in this notice:

Chinook salmon (Oncorhynchus tshawytscha): Threatened Puget Sound (PS); threatened Snake River (SnkR) spring/summer-run; endangered Upper Columbia River (UCR) spring-run; threatened Upper Willamette River (UWR), threatened Central Valley spring-run (CVS); endangered Sacramento River (SacR) winter-run; threatened California Coastal (CC).

Steelhead (O. mykiss): Threatened Middle Columbia River (MCR); threatened PS; threatened SnkR; threatened UCR; threatened UWR; threatened Central California Coast (CCC); threatened California Central Valley (CCV); threatened South-Central California Coast (S-CCC).

Chum salmon (O. keta): Threatened Hood Canal Summer-run (HCS).

Coho salmon (O. kisutch): Threatened Oregon Coast (OC); endangered Central California Coast (CCC).

Sockeye salmon (O. nerka): Endangered SnkR.

Eulachon (Thaleichthys pacificus): Threatened southern (S).

Green sturgeon (Acipenser medirostris): Threatened southern Distinct Population Segment (SDPS).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1124-7R

Under permit 1124-7R, the Idaho Department of Fish and Game (IDFG) is seeking to renew for 5 years a permit that would authorize them to continue five research projects they have been conducting in the Snake River basin for over 20 years. The permit would continue to cover the following actions: one general fish population inventory; one project designed to monitor SnkR spr/sum Chinook salmon natural production; one project researching kokanee and SnkR sockeye salmon populations in three lakes in the upper Salmon River subbasin; one project monitoring salmon and steelhead fish health; and one project monitoring natural steelhead production. Under the permit, the IDFG would continue to take adult and juvenile SnkR spr/sum Chinook salmon, SnkR steelhead, and SnkR sockeye salmon in mainstem and tributary habitat throughout the Snake, Clearwater, and Salmon River subbasins.

Juveniles would be collected via screw trap, hook-and-line angling, backpack electrofishing and, in the Stanley Basin lakes, midwater trawls. Juvenile fish would be captured, handled (anesthetized, weighed, measured, and checked for marks or tags), and released. A subsample of captured juveniles would be anesthetized, tissue sampled and implanted with passive integrated transponder (PIT) tags before being released. A further subsample of captured sockeye juveniles would be intentionally sacrificed for genetic analysis. Adults captured at traps and weirs would be handled (anesthetized, weighed, measured, and checked for marks or tags), and released. In addition, tissues may be collected from carcasses encountered during spawning surveys. Other than the juveniles that would be sacrificed for genetic analysis, the researchers are not planning to kill any additional listed fish, however a further small number may be killed as an inadvertent result of the proposed activities.

Permit 1585-5R

Under permit 1585-5R the Washington Department of Natural Resources (WDNR) is seeking to renew for 5 years a permit that would authorize them to continue to take juvenile PS Chinook salmon, PS steelhead, HCS chum salmon, and southern DPS eulachon in streams on WDNR land in the central Puget Sound Basin (Mason, Kitsap, King, Pierce, Thurston, Snohomish and Lewis counties in Washington). The purpose of the work is to determine whether listed fish are present in the small streams of those watersheds. Juvenile salmonids would be collected via backpack electrofishing, handled (anesthetized, weighed, measured, and checked for marks or tags), and released. The permit would also allow WDNR to take adult Southern DPS eulachon—a species for which there are currently no take prohibitions—where they may be encountered in the Lower Chehalis River. Eulachon are not being targeted but may unintentionally be captured.

The captured fish would be identified and released back to the waters from which they came. In some cases, the researchers may not actually capture any fish but would merely note their presence, however electrofishing where listed species are observed would still be reported as take. The researchers are not proposing to kill any of the listed fish being taken, but a small number may be killed as an inadvertent result of these activities. The information gathered would be used to inform land management decisions on WDNR holdings. This information would benefit listed species by helping WDNR identify existing man-made fish barriers that should be removed or replaced with structures that fish can pass over or through.

Permit 14283-4R

Under permit 14283-4R, Environmental Assessment Services (EAS) is seeking to renew for 5 years a permit that would authorize them to continue to take juvenile and adult UCR spring-run Chinook salmon, UCR steelhead, and MCR steelhead to support the U.S. Department of Energy's Hanford Site Cleanup Mission and regulatory drivers under the Comprehensive Environmental Response, Compensation, and Liability Act (CERCLA). The research would take place various locations in the Columbia River, extending from a point upstream of Wanapum Dam to an area a few kilometers above the confluence of the Columbia and Yakima Rivers. Juveniles would be collected via backpack electrofishing, boat electrofishing, hook-and-line angling, longline, and beach seine. Juvenile fish would be captured, handled (anesthetized, weighed, measured, and checked for marks or tags), and released. Adults would be collected via hook and line angling, longline, and beach seine. No adults would be captured during electrofishing activities, and if any were to be encountered, the equipment would immediately be turned off and the fish allowed to swim away. Captured adults would be handled (anesthetized, weighed, measured, and checked for marks or tags), and released. The research would benefit listed fish by helping monitor and reduce contamination from the Hanford Nuclear Reservation. The researchers do not propose to kill any listed fish but a small number may inadvertently be killed by the activities.

Permit 15730-3R

Under permit 15730-3R the Salmon Protection and Watershed Network (SPAWN) is seeking to renew for 5 years a permit that would authorize them to continue to take juvenile CC Chinook salmon, CCC coho salmon, and CCC steelhead in Lagunitas Creek and its tributaries in Marin County, California, in order to provide baseline, habitat, and monitoring data for juvenile and adult ESA-listed salmonids throughout the CCC coho range. Juveniles would be collected via fyke net and would be captured, handled (enumerated, measured, and checked for marks or tags), and released. A subsample of captured juveniles would be anesthetized, tissue sampled, and marked before being released. Spawned adults or post-spawn carcasses would be enumerated during spawning surveys, and tissue samples may be collected. The researchers are not proposing to kill any of the listed fish being captured, but a small number may be killed as an inadvertent result of these activities. The research is expected to benefit listed species by providing data to inform future research, restoration, and conservation efforts involving Oncorhynchus species.

Permit 16110-3R

Under permit 16110-3R the Marin Municipal Water District (Marin Water) is seeking to renew for 5 years a permit that would authorize them to continue to take adult and juvenile CC Chinook salmon, CCC coho salmon, and CCC steelhead in order to document trends in coho salmon abundance, determine freshwater and marine survival rates for coho salmon, assess the relationship between population trends and management efforts, and determine which coho life stage has the lowest survival rates. Juveniles would be collected via screw trap and backpack electrofishing and observed during snorkel surveys. Juvenile fish would be captured, handled (enumerated, measured, and checked for marks or tags), and released. A subsample of captured juveniles would be anesthetized, tissue sampled and PIT-tagged prior to release.

Adults would be observed during snorkel surveys and spawning surveys and, although screw traps do not target adult fish, some adult CCC steelhead moving downstream may be collected at a screw trap in Lagunitas Creek. Any adults collected in this way would be handled (enumerated, checked for marks or tags), and released. Spawned adults or post-spawn carcasses would be enumerated during spawning surveys, and tissues may be collected from any carcasses at that time. The researchers are not proposing to kill any of the listed fish being captured, but a small number may be killed as an inadvertent result of these activities. This research is expected to benefit the listed species by providing information on population trends in watersheds impacted by Marin Water's water supply operations and thereby help managers tailor those operations in ways designed to help achieve recovery goals.

Permit 16417-4R

Under permit 16417-4R the Santa Clara Valley Water District (SCVWD) is seeking to renew for 5 years a permit that would authorize them to continue to take juvenile and adult CCC steelhead and juvenile S-CCC steelhead in the Coyote Creek, Guadalupe River, Pajaro Creek, and Stevens Creek watersheds and Lake Almaden. The work would continue to help fill data gaps with regard to O. mykiss distribution and habitat usage in Santa Clara County, California. The data to be gathered would also be used to improve understanding of fish migrations in the context of SCVWD water operations and monitor efforts to remediate total maximum daily mercury loads in the county.

Juveniles would be collected via beach seining and backpack electrofishing, and observations would be conducted at weirs, fish ladders, and dams where no trapping occurs. Captured juvenile fish would be handled (anesthetized, weighed, measured, and checked for marks or tags), enumerated, and released. A subsample of captured juveniles would be anesthetized, tissue sampled and PIT-tagged prior to release. Spawning surveys would be conducted without disturbing redds, and adults would be observed (live and by video) at weirs, fish ladders, dams. The researchers are not proposing to kill any of the listed fish being captured, but a small number may be killed as an inadvertent result of these activities. The research is expected to benefit listed species by improving alignment of water supply management and fisheries needs to help steelhead survive and recover.

Permit 16446-3R

Under permit 16446-3R, the Confederated Tribes of the Umatilla Indian Reservation (CTUIR) is seeking to renew for 5 years a permit that would authorize them to continue to take juvenile MCR steelhead during the course of research designed to monitor listed fish population status in the Walla Walla River watershed, Washington. The data gathered on fish abundance, trends, genetics, diversity, productivity, and population structure would be used to inform management decisions regarding land use activities and recovery planning in the Walla Walla subbasin. The researchers would use rotary screw traps and backpack electrofishing units to capture the fish. At the screw traps, the fish would then be identified, measured, weighed, tissue sampled, and implanted with PIT-Tags (if they do not already have tags). Fish captured via electrofishing would be handled, measured, allowed to recover, and released in a safe area. Some adult carcasses would also be sampled. If fish are found in areas experiencing low flows, those fish could be relocated to safer areas. The CTUIR researchers are not proposing to kill any of the listed fish being captured, but a small number may be killed as an inadvertent result of these activities.

Permit 16979-3R

Under permit 16979-3R, the Washington Department of Fish and Wildlife (WDFW) is seeking to renew for 5 years a permit that would authorize them to continue to take adult and juvenile UCR spring-run Chinook salmon and UCR steelhead while collecting data on their abundance, status, distribution, diversity, species/ecological interactions, and behavior in the Columbia River—from its confluence with the Yakima River upstream to Chief Joseph Dam in Washington. The research would benefit fish by helping managers (a) understand the distribution and proportion of hatchery and natural origin steelhead, and Chinook in UCR tributaries, (b) understand the influences of other biotic and abiotic factors with respect to recovering listed species, (c) understand the potential effects of proposed land use practices, (d) determine appropriate regulatory and habitat protection measures in the areas where land use actions are planned, (e) project the impacts of potential hydraulic projects, and (f) evaluate the effectiveness of local forest practices and instream habitat improvement projects in terms of their ability to protect and enhance listed salmonid populations.

The WDFW researchers would capture fish via a wide variety of means (snorkeling, dip netting, seining, using electrofishing equipment, traps and weirs, and barbless hook-and-line sampling). The captured fish would be variously tissue sampled, measured, tagged, allowed to recover, and released. The researchers do not intend to kill any of the fish being captured, but a small percentage of them may inadvertently be killed as a result of the proposed activities.

Permit 17428-4R

Under permit 17428-4R, the Pacific States Marine Fisheries Commission (PSMFC) is seeking to renew for 5 years a permit that would authorize them to continue to take adult SacR winter-run Chinook salmon and CVS Chinook salmon, and juvenile and adult CCV steelhead in the lower American River and lower Stanislaus River, California, in order to monitor the abundance of juvenile salmon, infer biological responses to ongoing habitat restoration activities, and generate data for salmon life-cycle models. Juveniles would be collected via screw trap and would be handled (anesthetized, enumerated, measured, and checked for marks or tags), and released. A subsample of captured juveniles would be anesthetized, tissue sampled, and PIT-tagged prior to release. Although screw traps do not target adult fish, some adult steelhead moving downstream may be collected at screw traps. Any adults collected in this way would be handled (enumerated, checked for marks or tags), and released. Spawned adults or post-spawn carcasses that drift into the screw traps would also be enumerated and tissues may be collected from any carcasses encountered.

The researchers are not proposing to kill any of the listed fish being captured, but a small number may be killed as an inadvertent result of these activities. This work would benefit listed species by providing information on whether management activities should be modified to enhance the abundance, production, condition, and survival of juvenile CVS Chinook Salmon and CCV Steelhead in the American and Stanislaus Rivers. Improving life-cycle models would also provide insight on factors affecting abundance and help managers develop actions to address and mitigate those factors.

Permit 17851-4R

Under permit 17851-4R, the Coastal Watershed Institute (CWI) is seeking to renew for 5 years a permit that would authorize them to continue to take juvenile PS Chinook salmon, PS steelhead, HCS chum salmon, and southern DPS eulachon at the estuary of the Elwha River, Washington. The purpose of the work is to define the nearshore restoration response to Elwha dam removals—with an emphasis on ecological function of nearshore habitats for juvenile salmon and forage fish. Juvenile salmonids would be collected via beach seine, handled (identified, weighed, measured, and checked for marks or tags), and released. The permit would also allow CWI to take adult Southern DPS eulachon—a species for which there are currently no take prohibitions—via beach seine. Eulachon are not being targeted but may unintentionally be captured, and would be handled and released. The researchers are not proposing to kill any of the listed fish being captured, but a small number may be killed as an inadvertent result of these activities.

This research would provide information beneficial to ESA-listed and unlisted native fish by defining nearshore habitat use by key species before, during, and after dam removal. This information will allow managers to identify if adaptive management, sediment management, or additional restoration considerations are warranted in the Elwha River estuary following dam removal. This work will also provide information on nearshore habitat response to dam removal that is relevant to co-managers of other ESA-listed salmon and steelhead on the West Coast.

Permit 18001-4R

Under permit 18001-4R, the Pierce County, Washington, Department of Public Works and Utilities (Pierce County) is seeking to renew for 5 years a permit that would authorize them to continue to take adult PS Chinook salmon and PS steelhead in the waterways of Pierce County, Washington, in order to determine the distribution and diversity of anadromous fish species in the waterbodies adjacent to and within the County's jurisdiction. Juvenile salmonids would primarily be collected via beach seine and backpack electrofishing, although fish capture methods could also include dip nets or minnow traps. Juvenile fish would be captured, handled (weighed, measured, and checked for marks or tags), and released. Adults could also potentially be encountered during beach seining and, if they are, adult PS Chinook salmon and PS steelhead would be handled (weighed, measured, and checked for marks or tags), and released. All captured fish would be released into the same stream reach from which they were collected. The researchers are not proposing to kill any of the listed fish being captured, but a small number of fish may be killed as an inadvertent result of these activities.

These surveys would help establish listed salmonid presence in waterbodies about which this is currently little or inconclusive data. This information would be used to assess the impacts proposed projects might have on listed species and to guide decisions on where future projects should be implemented. The research would benefit PS Chinook salmon and PS steelhead by helping Pierce County develop a best management practices program, codify in-water work timing windows that would minimize harm to listed fish, and plan future habitat enhancement projects.

Permit 20792-2R

Under permit 20792-2R, FISHBIO is seeking to renew a permit that would authorize them to continue to take adult CVS Chinook salmon, CCV steelhead, and southern DPS green sturgeon in the San Joaquin River and South Delta in California in order to detail the relative abundance and distribution of predatory fishes (i.e., striped, largemouth, spotted, and smallmouth bass, and catfishes) and characterize the diets of predators to determine how habitat and environmental conditions affect the composition of the non-native fish community. Data collected on non-native resident fishes will help identify areas of elevated predator abundance and improve understanding of predation impacts on juvenile salmonids migrating through this region. Listed species are not being targeted by this work, although some may be unintentionally encountered or captured. Juveniles and adults would be collected via boat electrofishing, and those captured would be handled (enumerated, measured, checked for marks or tags), their health assessed, and released. No listed species would be tagged during the course of this study; any captured listed species would be measured and released. The researchers are not proposing to kill any of the listed fish being captured, but a small number of juveniles may be killed as an inadvertent result of these activities. This project is likely to benefit listed species by better delineating the abundance and distribution of non-native fish species that prey upon them.

Permit 21571-3R

Under permit 21571-3R, The United States Geological Survey (USGS) is seeking to renew for 5 years a permit to conduct research on migration survival among MCR steelhead in the Yakima River system in Washington State. The research would look at how well the listed fish are surviving passage through various reaches of the Yakima River. The USGS researchers would capture juvenile MCR steelhead and tag them with acoustic and PIT tags. They would then use PIT tag detectors and acoustic receivers to follow the fish as they move downstream. The researchers would also use boat electrofishing equipment to count predators in several reaches, but they would not use that equipment to capture any listed animals for handling and adult steelhead would be avoided in all cases.

The research would benefit the listed fish by helping managers understand what survival risks the young salmonids face when migrating downriver in the Yakima system. River co-managers would then be able to use that information to take actions designed to increase fish survival. The USGS researchers do not intend to kill any listed animals, but a small number may die as an inadvertent result of the planned activities.

Permit 22127-2R

Under permit 22127-2R, the U.S. Fish and Wildlife Service (USFWS) is seeking to renew for 5 years a permit that would authorize them to continue to take juvenile and adult PS Chinook salmon and PS steelhead in the Puyallup River basin (Pierce and King Counties, Washington), in order to gather information about bull trout (Salvelinus confluentus) movement and life history strategies in the basin. Bull trout are listed under the ESA and managed by USFWS. This research is not targeting ESA-listed fish under NMFS' jurisdiction (PS Chinook salmon and PS steelhead), but a small number may be unintentionally captured because their ranges overlap the target species. Juveniles may be collected via backpack electrofishing, gill net, and beach seine, and adults may be collected via gill net. Any adult or juvenile PS Chinook salmon or PS steelhead captured would be immediately released. The researchers are not proposing to kill any of the listed fish being captured, but a small number may be killed as an inadvertent result of these activities. While this work is intended to benefit listed bull trout by providing fine-scale information about their movement timing and upstream residency, any management and recovery actions informed by this work would likely also benefit PS Chinook salmon and PS steelhead due to their overlapping ranges and habitats.

Permit 26368

Under permit 26368, Idaho State University is seeking a new 5 year permit that would authorize them to annually take juvenile MCR steelhead, SnkR spring/summer-run Chinook salmon, SnkR steelhead, UWR Chinook salmon, UWR steelhead, and OC coho salmon at more than a dozen locations from Idaho to western Oregon. The purpose of the research is to conduct a range-wide comparison of native Rainbow Trout population genetics and structure across much of western North America. The work would benefit listed fish (primarily steelhead) by providing of information about population and subspecies structure, local biodiversity in a variety of settings, and some measure of how intra- and inter-species variability contribute to ecosystem maintenance. That information, in turn, would be used to monitor and adjust for variances in species diversity and population structure and health across a broad section of the listed species' habitat.

The juvenile fish would be collected via backpack electrofishing and hook-and-line angling. Only juvenile steelhead would be captured, handled (anesthetized, weighed, measured, and checked for marks or tags), sampled, and released. All other captured listed fish would be allowed to recover in aerated water and then released immediately. The researchers are not proposing to kill any of the listed fish being captured, but a small number of fish may be killed as an inadvertent result of these activities.

Permit 26412

Under permit 26412, FISHBIO, Inc. is seeking a new 5 year permit that would authorize them to annually take juvenile and adult SacR winter-run Chinook salmon, CVS Chinook salmon, and CCV steelhead, and adult southern DPS green sturgeon in the upper Sacramento River, in Glenn, Butte, and Tehama Counties, California. The purpose of this study is to provide new information or bolster limited existing information on the residency, movement patterns, and spatiotemporal distributions of juvenile non-native Striped bass (Morone saxatilis) in the upper reaches of the Sacramento River. ESA-listed fish are not being targeted by this sampling effort, although some of them may be unintentionally captured as their range overlaps with Striped bass in the study area.

ESA-listed salmon, steelhead, and sturgeon may be collected via hook-and-line angling or observed by camera or sonar. All listed fish captured would be handled (enumerated, measured, and checked for marks or tags), and released. Sampling would be limited to 6 to 10 days per month, and the permit would authorize no mortalities for listed fish. The information to be gathered is expected to benefit listed species by providing resource managers data to help them assess predation risks to outmigrating salmonids and juvenile southern DPS green sturgeon in the Sacramento River.

Permit 26626

Under permit 26626, the National Park Service (NPS) is seeking a new 5 year permit that would authorize them to annually take adult and juvenile PS Chinook salmon and PS steelhead, as well as subadult PS steelhead and spawned carcasses of both species, in the Elwha River Basin in Clallam County, Washington. The purpose of the study is to continue monitoring the recolonization of Pacific salmonids and lamprey after dam removal in the Elwha River. The majority of fish encountered during this study would be observed during snorkel surveys but not handled. Small numbers of juveniles of both species would be collected via backpack electrofishing, and captured juveniles would be anesthetized, tissue-sampled and marked prior to release. Adult PS Chinook salmon and PS steelhead would be collected via tangle net and hook-and-line angling in addition to observations during snorkel surveys. Captured adults would be anesthetized, tissue sampled, and tagged with a Floy, internal radio, or external radio tag prior to release. Spawned adults and post-spawn carcasses would be counted during spawning surveys. Subadult PS steelhead would also be observed during snorkel surveys and captured via tangle nets and hook-and-line angling; these fish would also be anesthetized, tissue sampled, and tagged with a Floy, internal radio, or external radio tag prior to release. The researchers are not proposing to kill any of the listed fish being captured, but a small number may be killed as an inadvertent result of these activities.

The information gathered from this work would help scientists and managers assess spatial extent, relative abundance, migration patterns, and life history attributes of Pacific salmonids and map how those factors relate to four stages of restoration in the Elwha River: protection, recolonization, local adaptation, and recovered. This project is designed to generate data for assessing the life history responses of migratory salmonids to dam removal, and the work would help resource managers involved with the Elwha Ecosystem Restoration Project better carry out PS steelhead and Chinook recovery actions.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: August 23, 2022.
Lisa Manning,
Acting Chief, Endangered Species Division, Office of Protected Resources, National Marine Fisheries Service.

[FR Doc. 2022-18481 Filed 8-26-22; 8:45 am]

BILLING CODE 3510-22-P